EXPORT-IMPORT BANK

[Public Notice: 2013-0032]

Application for Final Commitment for a Long-Term Loan or Financial Guarantee in Excess of $100 Million: AP087913XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

Reference: AP087913XX.

Purpose and Use:

Brief description of the purpose of the transaction:

A loan guarantee to Petroleos Mexicanos to support the procurement of U.S. goods and services from U.S. small businesses to be used in its oil and gas projects.

Brief non-proprietary description of the anticipated use of the items being exported:

The loan will enable Petroleos Mexicanos to finance the purchase of U.S. goods and services from U.S. small businesses to be used in Pemex's on- and off-shore oil and gas exploration and production areas.

To the extent that Ex-Im Bank is reasonably aware, the item(s) being exported are not expected to produce exports or provide services in competition with the exportation of goods or provision of services by a United States industry.

Parties:

Principal Supplier(s):

• IPS International, LLC.

• Quantum Reservoir Impact, LLC.

• Micro Smart Systems, Inc.

Obligor: Petroleos Mexicanos.

Guarantor(s): Pemex Exploracion y Produccion; Pemex Refinacion; Pemex Gas y Petroquimica Basica.

Description of Items Being Exported: Drilling rigs, platform rentals, compressors, oil field services and related equipment.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

DATES: Comments must be received on or before July 22, 2013 to be assured of consideration before final consideration of the transaction by the Board of Directors of Ex-Im Bank.

ADDRESSES: Comments may be submitted through Regulations.gov at WWW.REGULATIONS.GOV. To submit a comment, enter EIB-2013-0032 under the heading “Enter Keyword or ID” and select Search. Follow the instructions provided at the Submit a Comment screen. Please include your name, company name (if any) and EIB-2013-0032 on any attached document.

Cristopolis A. Dieguez,
Program Specialist, Office of General Counsel.

[FR Doc. 2013-15129 Filed 6-24-13; 8:45 am]

BILLING CODE 6690-01-P